DEPARTMENT OF DEFENSE

Office of the Secretary

Defense Advisory Committee on Military Personnel Testing; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Defense Advisory Committee on Military Personnel Testing will take place.

DATES: Day 1: Open to the public Thursday, July 27, 2017 from 9:00 a.m. to 4:00 p.m. Day 2: Open to the public Friday, July 28, 2017 from 9:00 a.m. to 12:00 p.m.

ADDRESSES: The address of the meeting is the Doubletree Hotel, 525 West Lafayette Boulevard, Detroit, Michigan 48226.

FOR FURTHER INFORMATION CONTACT: Jane Arabian, (703) 697-9271 (Voice), (703) 614-9272 (Facsimile). Email: jane.m.arabian.civ@mail.mil. Mailing address is Assistant Director, Accession Policy, Office of the Under Secretary of Defense for Personnel and Readiness, Room 3D1066, The Pentagon, Washington, DC 20301-4000.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to review planned changes and progress in developing computerized tests for military enlistment screening.

Agenda: The agenda includes an overview of current enlistment test development timelines, test development strategies, and planned research for the next 3 years.

Meeting Accessibility: Pursuant to 5 U.S.C. 552b and 41 CFR 102-3.140 through 102-3.165, and the availability of space, this meeting is open to the public.

Committee's Designated Federal Officer or Point of Contact: Dr. Jane M. Arabian, Assistant Director, Accession Policy, Office of the Under Secretary of Defense for Personnel and Readiness, Room 3D1066, The Pentagon, Washington, DC 20301-4000, email: jane.m.arabian.civ@mail.mil, telephone (703) 697-9271.

Written Statements: Persons desiring to make oral presentations or submit written statements for consideration at the committee meeting must contact the DFO, Dr. Jane Arabian at the address or telephone number in FOR FURTHER INFORMATION CONTACT no later than July 14, 2017.

Dated: June 30, 2017.
Aaron Siegel,
Alternate OSD Federal Register Liaison Officer, Department of Defense.

[FR Doc. 2017-14155 Filed 7-5-17; 8:45 am]

BILLING CODE 5001-06-P